DEPARTMENT OF AGRICULTURE

Forest Service

Notice of New Fee Sites; Federal Lands Recreation Enhancement Act, (Title VIII, Pub. L. 108-447)

AGENCY: Nez Perce—Clearwater National Forests, USDA Forest Service.

ACTION: Notice of new fee sites.

SUMMARY: The Nez Perce—Clearwater National Forests is proposing to charge fees at the following sites:

• Aquarius—Purple Beach Group Site, North Fork Ranger District: Proposed fee of $15 per night and an additional $5 extra vehicle, per night fee for more than 2 vehicles. The adjacent day use picnic area will remain free to public use.

• Cedar Flats Sewer Dump Station, Fenn Ranger Station, Moose Creek Ranger District: Proposed fee of $10 per use/waste dump.

• Elk River Day Use Picnic & Group Shelter, Palouse Ranger District: Proposed fee of $25 daily rental of the group day use facilities which includes a large group shelter, with a maximum capacity of 150 persons and parking for 30 vehicles. Advance reservations for this site will be available through the National Recreation Reservation System.

• Fish Creek Group Site, Salmon River Ranger District: Proposed fee of $25 per night with a maximum capacity of 75 and 20 vehicles. Advance reservations for this site will be available through the National Recreation Reservation System.

• Gold Meadows Cabin Rental, Lochsa/Powell Ranger District: Proposed fee of $40 per night. Advance reservations for this site will be available through the National Recreation Reservation System.

• Liz Creek Cabin Rental, North Fork Ranger District: Proposed fee of $40 per night. Advance reservations for this site will be available through the National Recreation Reservation System.

• Lolo Creek Campground, Lochsa/Powell Ranger District: Proposed fee of $12 per night.

• Partridge Creek Campground, Palouse Ranger District; Proposed fee of $12 per night.

• Scurvy Mountain Lookout Rental, North Fork Ranger District: Proposed fee of $45 per night. Advance reservations for this site will be available through the National Recreation Reservation System.

• Wallow Mountain Lookout Rental, North Fork Ranger District: Proposed fee of $45 per night. Advance reservations for this site will be available through the National Recreation Reservation System.

Additional construction is required at Partridge Creek Campground prior to implementation of proposed fee, and is planned to occur in 2016 and 2017. No fee will be charged prior to completion. The four proposed cabin and fire lookout rentals have not been available for recreation use prior to this date. Rentals of other cabins and lookouts on the Nez Perce-Clearwater National Forests have shown that people appreciate and enjoy the opportunity and availability of these rentals.

The proposed campgrounds, day use group shelters, and dump station have been previously open for public use, free of charge; however, all these sites have received upgrades and the 2014 Recreation Facility Analysis recommended considering fees be implemented to continue the availability and provision of services. Funds generated at these sites will be used for the continued operation and maintenance, upkeep of facilities, and improvements as feasible. These fees are only proposed and will be determined upon further analysis and public comment.

DATES: Send any comments about these fee proposals by October 14, 2016 so comments can be compiled, analyzed, and shared with the Bureau of Land Management (BLM) Coeur d'Alene Resource Advisory Committee. With the exception of the Partridge Creek Campground, the proposed effective date of implementation of proposed new fees will be no earlier than six months after publication of this notice.

ADDRESSES: Cheryl Probert, Forest Supervisor, Nez Perce—Clearwater National Forests, 903 3rd Street, Kamiah, Idaho 83536 or Email to cprobert@fs.fed.us.

FOR FURTHER INFORMATION CONTACT: Diana Jones, Landscape Architect Nez Perce—Clearwater National Forests at 208-476-8239 or dljones@fs.fed.us; Information about proposed fee changes can also be found on the Nez Perce—Clearwater National Forests Web site at http://www.fs.usda.gov/nezperceclearwater.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by the BLM Coeur d'Alene Resource Advisory Committee prior to a final decision and implementation.

A business analysis of the proposed new fee sites listed has shown that people desire having a variety of recreation opportunities and experiences throughout the Nez Perce—Clearwater National Forests, such as group camping, cabin and lookout rentals and single family camping. A market analysis of surrounding recreation sites with similar amenities indicates that the proposed fees are comparable and reasonable.

People wanting to reserve the identified sites will need to do so through the National Recreation Reservation Service, at www.recreation.gov or by calling 1-877-444-6777. The National Recreation Reservation Service charges a $9 fee per reservation.

Dated: September 1, 2016.
Cheryl F. Probert,
Nez Perce—Clearwater Forest Supervisor.

[FR Doc. 2016-21833 Filed 9-9-16; 8:45 am]

BILLING CODE 3411-15-P